DEPARTMENT OF COMMERCE

International Trade Administration

[A-357-810]

Oil Country Tubular Goods, Other Than Drill Pipe, from Argentina: Notice of Extension of Time Limit of Final Results of Antidumping Duty Administrative Review

AGENCY: Import Administration, International Trade Administration, Department of Commerce.

ACTION: Notice of Extension of Time Limit of Final Results of Antidumping Duty Administrative Review.

EFFECTIVE DATE: December 12, 2002.

FOR FURTHER INFORMATION CONTACT: Fred Baker at (202) 482-2924 or Robert James at (202) 482-0649; Antidumping and Countervailing Duty Enforcement Group III, Office Eight, Import Administration, International Trade Administration, U.S. Department of Commerce, 14th Street and Constitution Avenue N.W., Washington, D.C. 20230.

SUPPLEMENTARY INFORMATION:

Background

On August 11, 1995, the Department of Commerce (the Department) published the antidumping duty order on oil country tubular goods from Argentina (60 FR 41055). On August 1, 2001, the Department published an opportunity to request an administrative review of the order. See Antidumping or Countervailing Duty Order, Finding, or Suspended Investigation; Opportunity to Request Administrative Review, 66 FR 39729 (August 1, 2001). On August 31, 2001, North Star Steel Ohio, a division of North Star Steel Company, requested that the Department conduct an administrative review of sales of the subject merchandise made by Siderca S.A.I.C. Also on August 31, 2001, United States Steel LLC, requested that the Department conduct an administrative review of sales of the subject merchandise made by Acindar Industria de Aceros S.A. (United States Steel LLC changed its name to United States Steel Corporation effective January 1, 2002. See petitioner's submission of January 4, 2002.)

On October 1, 2001, the Department initiated the administrative review. See Initiation of Antidumping and Countervailing Duty Administrative Reviews and Requests for Revocation in Part, 66 FR 49924 (October 1, 2001). On February 13, 2002, the Department extended the due date for the preliminary results of this review. See Notice of Extension of Time Limit of Preliminary Results of Antidumping Duty Administrative Review: Oil Country Tubular Goods, Other Than Drill Pipe, From Argentina, 67 FR 6681 (February 13, 2002). On September 9, 2002, the Department published the preliminary results of this review. See Notice of Preliminary Results of Antidumping Duty Administrative Review; Oil Country Tubular Goods from Argentina, 67 FR 57215 (September 9, 2002). On October 11, 2002 United States Steel Corporation requested an extension of the due date for the rebuttal briefs and the hearing date. On October 15, 2002 the Department extended the rebuttal brief deadline to October 17, 2002. The current deadline for the final results is January 7, 2003.

Extension of Time Limit for Final Results

Pursuant to section 751(a)(3)(A) of the Tariff Act of 1930, as amended (the Tariff Act), the Department may extend the deadline for completion of the final results of an administrative review if it determines that it is not practicable to complete the final results within the statutory time limit of 120 days from the date on which the preliminary results were published. The Department has determined that it is not practicable to complete the final results of this review within the statutory time limit. During the course of this review, petitioners have submitted evidence that one of the parties who claims to be a no-shipper may have had shipments. Due to the need to investigate this issue thoroughly, it is not practicable to complete the final results within the time limit mandated by section 751(a)(3)(A) of the Tariff Act and section 19 CFR 351.213(h)(1) of the Department's regulations.

Therefore, the Department is extending the time limit for the final results by an additional 60 days (180 days from the date of publication of the preliminary results pursuant to section 19 CFR 351.213(h)(2)), until no later than March 10, 2003 (the calculated due date is March 8, 2003; however, since March 8, falls on a weekend, the due date will fall on the next business day, March 10).

This notice is published in accordance with section 751(1)(3)(A) of the Tariff Act and section 19 CFR 351.213(h)(2) of the Department's regulations.

Dated: December 4, 2002.
Joseph Spetrini,
Deputy Assistant Secretary for Import Administration, Group III.

[FR Doc. 02-31371 Filed 12-11-02; 8:45 am]

BILLING CODE 3510-DS-S